SECURITIES AND EXCHANGE COMMISSION

[Release No. 34-73550; File No. SR-NASDAQ-2014-034]

Self-Regulatory Organizations; The NASDAQ Stock Market LLC; Notice of Withdrawal of a Proposed Rule Change Relating to Proposed Changes To Remove From the Exchange Rules Fee Provisions Regarding Re-Transmission of “Third-Party Data”

November 6, 2014.

On April 7, 2014, The NASDAQ Stock Market LLC (“Nasdaq” or the “Exchange”) filed with the Securities and Exchange Commission (“Commission”) pursuant to Section 19(b)(1) of the Securities Exchange Act of 1934 (“Act”) ¹ and Rule 19b-4 thereunder,² to remove, from the Exchange rules, fee provisions with respect to third-party data feeds that Nasdaq receives from multiple sources and then re-transmits to clients in connection with the Exchange's co-location services. The proposed rule change was published for comment in the Federal Register on April 28, 2014.³ On June 5, 2014, the Commission extended the time to act on the proposal until July 25, 2014.⁴ On July 22, 2014, the Commission instituted proceedings to determine whether to disapprove the proposed rule change in an order published in the Federal Register.⁵ The Commission received no comment letters on the proposed rule change. On October 23, 2014, the Commission extended the time to act on the proposal until December 24, 2014.⁶ On October 24, 2014, the Exchange withdrew the proposal (SR-NASDAQ-2014-034).

¹ 15 U.S.C. 78s(b)(1).

² 17 CFR 240.19b-4

³ See Securities Exchange Act Release No. 71990 (April 22, 2014), 79 FR 23389 (“Notice”).

⁴ See Securities Exchange Act Release No. 72328, 79 FR 33605 (June 11, 2014).

⁵ See Securities Exchange Act Release No. 72654, 79 FR 43808 (July 28, 2014).

⁶ See Securities Exchange Act Release No. 73416, 79 FR 64444 (October 29, 2014).

For the Commission, by the Division of Trading and Markets, pursuant to delegated authority.⁷
⁷ 17 CFR 200.30-3(a)(12).
Kevin M. O'Neill,
Deputy Secretary.

[FR Doc. 2014-26813 Filed 11-12-14; 8:45 am]

BILLING CODE 8011-01-P